DEPARTMENT OF TRANSPORTATION

Federal Aviation Administration

14 CFR Part 39

[Docket No. 2000-NM-58-AD; Amendment 39-11595; AD 2000-03-51]

RIN 2120-AA64

Airworthiness Directives; McDonnell Douglas Model DC-9, Model MD-90-30, Model 717-200, and Model MD-88 Airplanes

AGENCY: Federal Aviation Administration, DOT.

ACTION: Final rule; request for comments.

SUMMARY: This document publishes in the Federal Register an amendment adopting Airworthiness Directive (AD) 2000-NM-58-AD that was sent previously to all known U.S. owners and operators of McDonnell Douglas Model DC-9, Model MD-90-30, Model 717-200, and Model MD-88 airplanes by individual telegrams. This AD requires inspecting the general condition of the jackscrew assembly and the area around the jackscrew assembly to detect the presence of metal shavings and flakes. This action is prompted by a report from an operator that indicated two instances of metallic shavings in the vicinity of the jackscrew assembly and gimbal nut of the horizontal stabilizer. The actions specified by this AD are intended to prevent loss of pitch trim capability due to excessive wear of the jackscrew assembly of the horizontal stabilizer, which could result in loss of vertical control of the airplane.

DATES: Effective March 6, 2000, to all persons except those persons to whom it was made immediately effective by telegraphic AD 2000-03-51, issued February 11, 2000, which contained the requirements of this amendment.

The incorporation by reference of certain publications listed in the regulations is approved by the Director of the Federal Register as of March 6, 2000.

Comments for inclusion in the Rules Docket must be received on or before April 28, 2000.

ADDRESSES: Submit comments in triplicate to the Federal Aviation Administration (FAA), Transport Airplane Directorate, ANM-114, Attention: Rules Docket No. 2000-NM-58-AD, 1601 Lind Avenue, SW., Renton, Washington 98055-4056.

The applicable service information may be obtained from Boeing Commercial Airplane Group, P.O. Box 3707, Seattle, Washington 98124-2207. This information may be examined at the FAA, Transport Airplane Directorate, 1601 Lind Avenue, SW., Renton, Washington; or at the FAA, Transport Airplane Directorate, Los Angeles Aircraft Certification Office, 3960 Paramount Boulevard, Lakewood, California 90712-4137; or at the Office of the Federal Register, 800 North Capitol Street, NW., suite 700, Washington, DC.

FOR FURTHER INFORMATION CONTACT: Michael E. O'Neil, Senior Engineer, Structures Branch, ANM-120L, FAA, Transport Airplane Directorate, Los Angeles Aircraft Certification Office, 3960 Paramount Boulevard, Lakewood, California 90712-4137; telephone (562) 627-5320; Fax (562) 627-5210.

SUPPLEMENTARY INFORMATION: On February 11, 2000, the FAA issued telegraphic AD 2000-03-51, which is applicable to all Model DC-9, Model MD-90-30, Model 717-200, and Model MD-88 airplanes; certificated in any category.

Background

On January 31, 2000, a McDonnell Douglas Model DC-9-83 (MD-83) airplane was involved in an accident near Los Angeles, California, on a flight from Puerto Vallarta, Mexico, to San Francisco, California. The FAA has participated in the subsequent accident investigation to determine possible causes of the accident. One area of interest in the investigation has been the jackscrew assembly of the horizontal stabilizer. The FAA has received a report from an operator that indicated two instances of metallic shavings in the vicinity of the jackscrew assembly and gimbal nut of the horizontal stabilizer. Metallic shavings in the vicinity of the horizontal stabilizer indicate excessive wear of the jackscrew assembly. Such excessive wear, if not corrected, could result in possible loss of pitch trim capability, which could result in loss of vertical control of the airplane.

Explanation of Relevant Service Information

The FAA has reviewed and approved Boeing Alert Service Bulletin DC9-27A362 (for Model DC-9 and Model MD-88 airplanes), Boeing Alert Service Bulletin MD90-27A034 (for Model MD-90-30 airplanes), and Boeing Alert Service Bulletin 717-27A0002 (for Model 717-200 airplanes), all dated February 11, 2000, which describe procedures for inspecting the general condition of the jackscrew assembly and the area around the jackscrew assembly to detect the presence of metal shavings and flakes.

Explanation of Requirements of the Rule

Since the unsafe condition described is likely to exist or develop on other airplanes of the same type design, the FAA issued telegraphic AD 2000-03-51 to prevent loss of pitch trim capability due to excessive wear of the jackscrew assembly of the horizontal stabilizer, which could result in loss of vertical control of the airplane. Since an unsafe condition has been identified that is likely to exist or develop on other airplanes of this same type design, this airworthiness directive requires the accomplishment of the previously referenced alert service bulletins.

Since it was found that immediate corrective action was required, notice and opportunity for prior public comment thereon were impracticable and contrary to the public interest, and good cause existed to make the AD effective immediately by individual telegrams issued on February 11, 2000, to all known U.S. owners and operators of McDonnell Douglas Model DC-9, Model MD-90-30, Model 717-200, and Model MD-88 airplanes. These conditions still exist, and the AD is hereby published in the Federal Register as an amendment to section 39.13 of the Federal Aviation Regulations (14 CFR 39.13) to make it effective to all persons.

Interim Action

This is considered to be interim action until final action is identified.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-58-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-03-51 McDonnell Douglas: Amendment 39-11595. Docket 2000-NM-58-AD.

Applicability: All Model DC-9, Model MD-90-30, Model 717-200, and Model MD-88 airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent loss of pitch trim capability due to excessive wear of the jackscrew assembly of the horizontal stabilizer, which could result in loss of vertical control of the airplane, accomplish the following:

Inspections and Test

(a) Prior to the accumulation of 650 hours total time-in-service (TTIS), or within 72 hours after the effective date of this AD, whichever occurs later, accomplish the actions required by paragraphs (a)(1), (a)(2), (a)(3), (a)(4), and (a)(5) of this AD; in accordance with Boeing Alert Service Bulletin DC9-27A362 (for Model DC-9 and Model MD-88 airplanes), Boeing Alert Service Bulletin MD90-27A034 (for Model MD-90-30 airplanes), and Boeing Alert Service Bulletin 717-27A0002 (for Model 717-200 airplanes), all dated February 11, 2000. Repeat the inspections, thereafter, at intervals not to exceed 650 flight hours.

(1) Perform a general visual inspection of the lubricating grease on the jackscrew assembly and the area directly below the jackscrew and surrounding areas for the presence of metal shavings and flakes in accordance with paragraph 3.B.2. of the Accomplishment Instructions of the applicable alert service bulletin. If the presence of metal shavings or flakes is detected, prior to further flight, remove and replace the jackscrew assembly with a new or serviceable assembly, in accordance with the applicable alert service bulletin.

(2) Perform a general visual inspection of the jackscrew assembly to detect the presence of corrosion, pitting, or distress in accordance with paragraph 3.B.3. of the Accomplishment Instructions of the applicable alert service bulletin. If any corrosion, pitting, or distress is detected, prior to further flight, replace the jackscrew assembly with a new or serviceable assembly, in accordance with the applicable alert service bulletin.

(3) Check the condition of the jackscrew assembly lubricant in accordance with paragraph 3.B.4. of the Accomplishment Instructions of the applicable alert service bulletin. If the jackscrew assembly is dry, lubricate the assembly in accordance with the applicable alert service bulletin.

(4) Inspect the horizontal stabilizer jackscrew upper and lower mechanical stops for general condition in accordance with paragraph 3.B.5. of the Accomplishment Instructions of the applicable alert service bulletin, and record the condition.

(5) Perform a test of the horizontal stabilizer shutoff controls in accordance with paragraph 3.B.6. of the Accomplishment Instructions of the applicable alert service bulletin. If the mechanical stop on the jackscrew contacts the mechanical stop on the acme nut prior to limit switch shutoff, prior to further flight, adjust the horizontal stabilizer trim system in accordance with operator-approved maintenance instructions.

Note 2: For the purposes of this AD, a general visual inspection is defined as: “A visual examination of an interior or exterior area, installation or assembly to detect obvious damage, failure, or irregularity. This level of inspection is made under normally available lighting conditions such as daylight, hangar lighting, flashlight, or drop-light and may require removal or opening of access panels or doors. Stands, ladders, or platforms may be required to gain proximity to the area being checked.”

Wear Check

(b) Within 2,000 flight hours since the last acme screw and nut wear check conducted in accordance with the DC9 McDonnell Douglas Maintenance Manual, Chapter 27-41-1; MD80 McDonnell Douglas Maintenance Manual, Chapter 27-41-01; MD90 McDonnell Douglas Maintenance Manual, Chapter 27-41-10; or 717 McDonnell Douglas Maintenance Manual, Chapter 27-41-04; or within 30 days after the effective date of this AD, whichever occurs later: Perform an acme screw and nut wear check in accordance with paragraph 3.B., Phase 2, paragraph 2. of the Accomplishment Instructions of Boeing Alert Service Bulletin DC9-27A362 (for Model DC-9 and Model MD-88 airplanes), Boeing Alert Service Bulletin MD90-27A034 (for Model MD-90-30 airplanes), and Boeing Alert Service Bulletin 717-27A0002 (for Model 717-200 airplanes), all dated February 11, 2000. Repeat the inspections, thereafter, at intervals not to exceed 2,000 flight hours.

Note 3: Accomplishment of paragraphs (c), (d), and (e) of the Boeing Service Engineering Message Number M-7200-00-00456, dated February 9, 2000, constitutes compliance with paragraphs (a)(2), (a)(3), and (a)(4) of this AD. Accomplishment of paragraph (a) of Boeing Service Engineering Message Number M-7200-00-00456 constitutes compliance with paragraph (b) of this AD.

Reporting Requirement

(c) If any damage is detected during any inspection required by paragraphs (a) and (b) of this AD, within 48 hours after accomplishing the inspections, report the inspection results in accordance with Boeing Alert Service Bulletin DC9-27A362 (for Model DC-9 and Model MD-88 airplanes), Boeing Alert Service Bulletin MD90-27A034 (for Model MD-90-30 airplanes), and Boeing Alert Service Bulletin 717-27A0002 (for Model 717-200 airplanes), all dated February 11, 2000. If no damage is detected during any inspection required by this AD, report the inspection results within 10 days of accomplishing that inspection in accordance with the appropriate alert service bulletin. For airplanes that are inspected after the effective date of this AD, include in the report the serial number of the airplane, the number of total flight hours and flight cycles accumulated on the airplane to the Manager, Los Angeles Aircraft Certification Office (ACO), FAA, Transport Airplane Directorate, 3960 Paramount Boulevard, Lakewood, California 90712-4137; telephone (562) 627-5320; Fax (562) 627-5210. Information collection requirements contained in this regulation have been approved by the Office of Management and Budget (OMB) under the provisions of the Paperwork Reduction Act of 1980 (44 U.S.C. 3501 et seq.) and have been assigned OMB Control Number 2120-0056.

Alternative Methods of Compliance

(d) An alternative method of compliance or adjustment of the compliance time that provides an acceptable level of safety may be used if approved by the Manager, Los Angeles ACO, FAA, Transport Airplane Directorate. Operators shall submit their requests through an appropriate FAA Principal Maintenance Inspector, who may add comments and then send it to the Manager, Los Angeles ACO.

Note 4: Information concerning the existence of approved alternative methods of compliance with this AD, if any, may be obtained from the Manager, Los Angeles ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Boeing Alert Service Bulletin DC9-27A362 (for Model DC-9 and Model MD-88 airplanes), dated February 11, 2000; Boeing Alert Service Bulletin MD90-27A034 (for Model MD-90-30 airplanes), dated February 11, 2000; and Boeing Alert Service Bulletin 717-27A0002 (for Model 717-200 airplanes), dated February 11, 2000. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

(g) This amendment becomes effective on March 6, 2000, to all persons except those persons to whom it was made immediately effective by telegraphic AD 2000-03-51, issued on February 11, 2000, which contained the requirements of this amendment.

Issued in Renton, Washington, on February 17, 2000.
Donald L. Riggin,
Acting Manager, Transport Airplane Directorate, Aircraft Certification Service.

[FR Doc. 00-4337 Filed 2-25-00; 8:45 am]

BILLING CODE 4910-13-U